DEPARTMENT OF ENERGY

Federal Energy Regulatory Commission

[Docket No. RP01-194-000]

Viking Gas Transmission Company; Notice of Filing

December 28, 2000.

Take notice that on December 19, 2000, Viking Gas Transmission Company (Viking), tendered for filing as part of its FERC Gas Tariff, First Revised Volume No. 1, the following tariff sheets proposed to be effective January 1, 2001:

Seventh Revised Sheet No. 141

Second Revised Sheet No. 142

Second Revised Sheet No. 143

Third Revised Sheet No. 144

Second Revised Sheet No. 145

Third Revised Sheet No. 146

The purpose of this filing is to revise Viking's Electronic Bulletin Board Access Service Agreement (EBB Agreement) to reflect the replacement of Viking's Webshipper computer system. The revised EBB Agreement does not identify a particular EBB computer system so that Viking will not have to modify the EBB Agreement every time it upgrades its EBB computer system. Replacement of Webshipper for EBB purposes has no effect other than to change the specific technology used for EBB communication. Viking will continue to comply with all EBB requirements established by the Commission. Viking is filing these sheets under section 4 of the Natural Gas Act, 15 U.S.C. 717c (1996).

Viking requests an effective date of January 1, 2001, the date the new computer system will be in service, and accordingly requests such waivers of Part 154 and the Commission's regulations under the Natural Gas Act as may be necessary to place the tariff sheets in effect on the proposed date. Accordingly, Viking requests expedited consideration so that the revised EBB Service Agreement may be executed prior to the January 1, 2001 date on which Viking's EBB system is implemented. Viking will employ the agreement effective January 1, 2001, subject to any changes required by the Commission. Viking states that copies of the filing have been mailed to all its jurisdictional customers and to affected state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-165 Filed 1-3-01; 8:45 am]

BILLING CODE 6717-01-M